DEPARTMENT OF DEFENSE

Department of the Army, Corps of Engineers

Intent To Prepare an Integrated Draft Feasibility Report and Environmental Impact Statement To Investigate Hydrologic and Hydraulic Problems Threatening Navigation, Aquatic Ecosystem Habitat, Recreation, Flood Damage Reduction and Existing Infrastructure at the Three Rivers Study Site in Arkansas and Desha Counties in Southeast Arkansas

AGENCY: Department of the Army, U.S. Army Corps of Engineers, DoD.

ACTION: Notice of intent.

SUMMARY: The study is being conducted under the authority contained in the River and Harbor Act of 1946 (Pub. L. 79-525), as amended, which authorized the development of the Arkansas River and its tributaries for the purposes of navigation, flood control, hydropower, water supply, recreation, and fish and wildlife. Public Law 91-649 stated that the project would be known as the McClellan-Kerr Arkansas River navigation system. Additional authorization is included by the Flood Control Act of 1970, (Pub. L. 91-611), as amended, under Section 216 and under guidance provided in ER 1105-2-100. Pursuant to the National Environmental Policy Act (NEPA), the USACE, Little Rock District, will prepare a Draft Environmental Impact Statement (EIS) for the Three Rivers Study. The EIS will evaluate potential impacts (beneficial and adverse) to the natural, physical, and human environment as a result of implementing any of the proposed project alternatives developed during the process.

ADDRESSES: Submit written comments to Mr. Craig Hilburn, Biologist, U.S. Army Corps of Engineers, Planning and Environmental Division, Environmental Branch, Little Rock District, P.O. Box 867, Little Rock, AR 72203-0867. Comments will be accepted through October 15, 2015.

FOR FURTHER INFORMATION CONTACT: For questions or comments regarding the Three Rivers Draft Feasibility Report or EIS, please contact Mr. Craig Hilburn, (501) 324-5735 or email: david.c.hilburn@usace.army.mil.

SUPPLEMENTARY INFORMATION: 1. MKARNS: The McClellan-Kerr Arkansas River Navigation System consists of a series of 18 locks and dams that provide navigation from the Mississippi River to the Port of Catoosa near Tulsa, Oklahoma. River flow in the Arkansas River is modified primarily by 11 reservoirs in Oklahoma.

2. Study Location: The study is located at the confluence of the Mississippi, White, and Arkansas Rivers in Desha and Arkansas Counties, in southeast Arkansas. Prominent features include the McClellan-Kerr Arkansas River Navigation System (MKARNS) Post Canal and the 160,000-acre Dale Bumpers National Wildlife Refuge (U.S. Fish and Wildlife Service). The Arkansas Post Canal connects the Arkansas River to the White River for navigation onto the Mississippi River to complete the 445-mile navigation system. The study area is downstream of Lock No. 1 of the MKARNS and upstream of the Montgomery Point Lock & Dam and includes any adjacent landmasses that are presently being impacted or could be potentially impacted by the alternatives.

3. Study History: Studies in the area have occurred since the mid-1960's. Structures were placed along the White River and between the White and Arkansas River to regulate hydrologic flow between the two systems in the 1960's, 1970's and late 1980's.

4. Scoping/Public Involvement. The Public Scoping process provides information about the study to the public, serves as a mechanism to solicit agency and public input on alternatives and issues of concern, and ensures full and open participation in Scoping and review of the Draft EIS. Comments received as a result of this notice and news releases will be used to assist the preparers in identifying potential impacts to the quality of the human or natural environment. The Corps invites other Federal agencies, Native American Tribes, State and local agencies and officials, private organizations, and interested individuals to participate in the Scoping process by forwarding written comments to (see ADDRESSES). Interested parties may also request to be included on the mailing list for public distribution of announcements and documents.

5. Issues/Alternatives: The EIS will evaluate effects from a range of alternatives developed to address navigation and environmental concerns of the area. Anticipated significant issues to be addressed in the EIS include impacts on: (1) Navigation, (2) flooding, (3) recreation, (4) river hydraulics, (5) fish and wildlife resources and habitats, (6) wetlands, (7) timber and forestry management, and (8) other impacts identified by the Public, agencies or USACE studies.

The hydrology of the two rivers is strongly influenced by high water in the Mississippi River. Significant hydrologic and hydraulic problems currently threaten the Corps' mission areas of Navigation, Recreation, Flood Risk Management, as well as aquatic ecosystem habitat and existing infrastructure. Possible solutions may include increasing detention upstream, raising the height of the containment structure, removal of the control structure, or construction of a passive or active weir to restore a more natural hydrology between the two rivers. The study will evaluate opportunities for ecosystem restoration. Proposed improvements resulting from the study could impact (positively or negatively) navigation, agriculture, silviculture, hydropower, recreation, flood risk management, and fish and wildlife.

6. Availability of the Draft EIS: The Draft Environmental Impact Statement is anticipated to be available for public review in the spring of 2017, subject to the receipt of Federal funding.

Courtney W. Paul,
Colonel, U.S. Army, District Engineer.

[FR Doc. 2015-23032 Filed 9-11-15; 8:45 am]

BILLING CODE 3720-58-P